DEPARTMENT OF DEFENSE

Office of the Secretary

Defense Policy Board; Notice of Federal Advisory Committee Meeting

AGENCY: Under Secretary of Defense for Policy, Department of Defense (DoD).

ACTION: Notice of Federal Advisory Committee meeting.

SUMMARY: The DoD is publishing this notice to announce the following Federal Advisory Committee meeting of the Defense Policy Board (DPB) will take place.

DATES: Closed to the public; Tuesday, March 7, 2023, from 8:30 a.m. to 5:00 p.m. Closed to the public; Wednesday, March 8, 2023, from 8:30 a.m. to 3:00 p.m.

ADDRESSES: The closed meetings will be held in the Rodman Conference Room, 3D852, at The Pentagon, 2000 Defense Pentagon, Washington, DC 20301-2000.

FOR FURTHER INFORMATION CONTACT: Dr. Jeff McManus, (703) 697-7662 (Voice), osd.pentagon.rsrcmgmt.list.ousd-policy-defense-board-mbx@mail.mil (Email). Mailing address is 2000 Defense Pentagon, Attn: 5B683, Washington, DC 20301-2000.

SUPPLEMENTARY INFORMATION: This meeting is being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Due to circumstances beyond the control of the Designated Federal Officer, the Defense Policy Board was unable to provide public notification required by 41 CFR 102-3.150(a) concerning its March 7-8, 2023 meeting. Accordingly, the Advisory Committee Management Officer for the Department of Defense, pursuant to 41 CFR 102-3.150(b), waives the 15-calendar day notification requirement.

Purpose of the Meeting: To obtain, review, and evaluate classified information related to the DPB's mission to advise on (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On March 7, 2023, and March 8, 2023, the DPB will receive classified briefings and hold classified discussions on how well DoD information operations are understood, leveraged, integrated, and synchronized into broader interagency and national level influence activities and strategic communications. The DPB will receive classified briefings on (1) how DoD information operations are leveraged and synchronized with programs conducted by other U.S. departments and agencies from Christopher P. Maier, Assistant Secretary of Defense for Special Operations and Low-Intensity Conflict; (2) how DoD information operations are integrated operationally with programs conducted by other U.S. departments and agencies from RDML Ronald A. Foy, Deputy Director for Global Operations, J-39, J-3, Joint Staff; (3) receive a State Department briefing on perspectives on leveraging DoD information operations capabilities from Mr. James Rubin, Special Envoy & Coordinator, Global Engagement Center, State Department; (4) receive a State Department briefing on how DoD information operations function within public diplomacy initiatives from Ms. Elizabeth Allen, Acting Under Secretary of State for Public Diplomacy and Public Affairs, State Department; (5) receive two briefings into how DoD information operations activities are synchronized with efforts conducted by the intelligence community from the Central Intelligence Agency; (6) receive briefings on how DoD information operations are addressed in national security policy development, planning, and implementation from Mr. John Kirby, Coordinator for Strategic Communications, Ms. Cara Abercrombie, Deputy Assistant to the President and Coordinator for Defense Policy & Arms Control, and Mr. Jonathan Finer, Principal Deputy Assistant to the President for National Security Affairs; and (7) finally, discuss the Board's reflections regarding these briefings in a classified session with the Secretary, and/or the Deputy Secretary, and the Under Secretary of Defense.

Meeting Accessibility: In accordance with 5 U.S.C. 1009(d) and 41 CFR 102-3.155, the DoD has determined that this meeting shall be closed to the public. The Under Secretary of Defense (Policy), in consultation with the DoD FACA Attorney, has determined in writing that this meeting be closed to the public because the discussions fall under the purview of 5 U.S.C. 552b(c)(1) and are so inextricably intertwined with unclassified material that they cannot reasonably be segregated into separate discussions without disclosing classified material.

Written Statements: In accordance with 5 U.S.C. 1009(a)(3) and 41 CFR 102-3.105(j) and 102-3.140(c), the public or interested organizations may submit written statements to the membership of the DPB at any time regarding its mission or in response to the stated agenda of a planned meeting. Written statements should be submitted to the DPB's DFO, which is listed in this notice or can be obtained from the GSA's FACA Database— http://www.facadatabase.gov/. Written statements that do not pertain to a scheduled meeting of the DPB may be submitted at any time. However, if individual comments pertain to a specific topic being discussed at a planned meeting, then these statements must be submitted no later than five business days prior to the meeting in question. The DFO will review all submitted written statements and provide copies to all members.

Dated: February 23, 2023.
Aaron T. Siegel,
Alternate OSD Federal Register Liaison Officer, Department of Defense.

[FR Doc. 2023-04123 Filed 2-28-23; 8:45 am]

BILLING CODE 5001-06-P